DEPARTMENT OF THE INTERIOR

National Park Service

[NPS-WASO-NAGPRA-NPS0039344; PPWOCRADN0-PCU00RP14.R50000]

Notice of Intended Repatriation: U.S. Department of the Interior, National Park Service, Great Smoky Mountains National Park, Gatlinburg, TN

AGENCY: National Park Service, Interior.

ACTION: Notice.

SUMMARY: In accordance with the Native American Graves Protection and Repatriation Act (NAGPRA), the U.S. Department of the Interior, National Park Service, Great Smoky Mountain National Park (GRSM) intends to repatriate a certain cultural item that meets the definition of a sacred object and that has a known lineal descendant.

DATES: Repatriation of the cultural item in this notice may occur on or after February 18, 2025.

ADDRESSES: Cassius Cash, Superintendent, Great Smoky Mountains National Park, 107 Park Headquarters Road, Gatlinburg, TN 37738, telephone (865) 8436-1200, email cassius_cash@nps.gov.

SUPPLEMENTARY INFORMATION: This notice is published as part of the National Park Service's administrative responsibilities under NAGPRA. The determinations in this notice are the sole responsibility of the Superintendent, GRSM, and additional information on the determinations in this notice, including the results of consultation, can be found in the summary or related records.

Abstract of Information Available

A total of one cultural item has been requested for repatriation. The one sacred item is a stone pipe. The stone pipe was reported to have been given to Colonel William Holland Thomas by Yonaguska. In 1937, it was donated to GRSM by Colonel Thomas' daughter-in-law, Mrs. James R. Thomas. Yonaguska was a known Cherokee leader in the early 19th century. No hazardous substances are known to have been used to treat the cultural item.

Determinations

GRSM has determined that:

• The one sacred object described in this notice is a specific ceremonial object needed by a traditional Native American religious leader for present-day adherents to practice traditional Native American religion, according to the Native American traditional knowledge of a lineal descendant, Indian Tribe, or Native Hawaiian organization.

• A known lineal descendant (name withheld per request) is connected to the cultural item described in this notice.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after February 18, 2025. If competing requests for repatriation are received, GRSM must determine the most appropriate requestor prior to repatriation. Requests for joint repatriation of the cultural item are considered a single request and not competing requests. GRSM is responsible for sending a copy of this notice to the Indian Tribes and Native Hawaiian organizations identified in this notice and to any other consulting parties.

Authority: Native American Graves Protection and Repatriation Act, 25 U.S.C. 3004 and the implementing regulations, 43 CFR 10.9.

Dated: January 13, 2025.
Melanie O'Brien,
Manager, National NAGPRA Program.

[FR Doc. 2025-01181 Filed 1-16-25; 8:45 am]

BILLING CODE 4312-52-P